DEPARTMENT OF COMMERCE

International Trade Administration

[A-570-954]

Certain Magnesia Carbon Bricks From the People's Republic of China: Final Results and Final Partial Rescission of Antidumping Duty Administrative Review; 2010-2011

AGENCY: Import Administration, International Trade Administration, Department of Commerce.

SUMMARY: On October 9, 2012, the Department of Commerce (“Department”) published in the Federal Register the preliminary results of the first administrative review of the antidumping duty order on certain magnesia carbon bricks from the People's Republic of China (“PRC”).¹ We provided interested parties an opportunity to comment on the Preliminary Results. After reviewing the comments and information received, we made no change to the Preliminary Results. The final weighted-average dumping margins for this review are listed below in the “Final Results of Review” section of this notice. The period of review (“POR”) is March 12, 2010, through August 31, 2011.

¹ See Certain Magnesia Carbon Bricks From the People's Republic of China: Antidumping Duty Administrative Review; 2010-2011, 77 FR 61394 (October 9, 2012) (“Preliminary Results”).

DATES: Effective Date: April 15, 2013.

FOR FURTHER INFORMATION CONTACT: Jerry Huang, AD/CVD Operations, Office 9, Import Administration, International Trade Administration, U.S. Department of Commerce, 14th Street and Constitution Avenue NW, Washington, DC 20230; telephone: (202) 482-4047.

SUPPLEMENTARY INFORMATION:

Background

On October 9, 2012, the Department published the Preliminary Results. On October 31, 2012, Fengchi Imp. and Exp. Co., Ltd. of Haicheng City, and its affiliated producer Fengchi Refractories Co., of Haicheng City (collectively “Fengchi”) submitted surrogate value information. On November 13, 2012, the Department received case briefs from Resco Products, Inc. (“Petitioner”) and from Fengchi and Fedmet Resources Corporation (“Fedmet”), an importer of subject merchandise. On November 19, 2012, the Department received rebuttal briefs from Petitioner, ANH Refractories Company (“ANH”), a domestic interested party, Fengchi and Fedmet.

Analysis of Comments Received

All issues raised in the case and rebuttal briefs by parties to this review are addressed in the memorandum entitled, “Certain Magnesia Carbon Bricks from the People's Republic of China: Issues and Decision Memorandum for the Final Results of the 2010-2011 Administrative Review (“Issues and Decision Memorandum”),” which is dated concurrently with, and adopted by, this notice. A list of the issues which parties raised, and to which we responded in the Issues and Decision Memorandum, is attached to this notice as Appendix I. The Issues and Decision Memorandum is a public document and is on file electronically via Import Administration's Antidumping and Countervailing Duty Centralized Electronic Service System (“IA ACCESS”). IA ACCESS is available to registered users at http://iaaccess.trade.gov, and is available to all parties in the Central Records Unit, room 7046 of the main Department of Commerce building. In addition, a complete version of the Issues and Decision Memorandum can be accessed directly on the internet at http://www.trade.gov/ia/. The signed Issues and Decision Memorandum and the electronic versions of the Issues and Decision Memorandum are identical in content.

Scope of the Order

The merchandise subject to the order includes certain magnesia carbon bricks.² Certain magnesia carbon bricks that are the subject of this order are currently classifiable under subheadings 6810.11.0000, 6810.91.0000, 6810.99.0080, 6902.10.1000, 6902.10.5000, 6815.91.0000, 6815.99.2000 and 6815.99.4000 of the Harmonized Tariff Schedule of the United States (“HTSUS”). Although the HTSUS numbers are provided for convenience and customs purposes, the written description of the scope of the order remains dispositive.³

² See Issues and Decision Memorandum for a complete description of the scope of the order.

³ See Certain Magnesia Carbon Bricks From Mexico and the People's Republic of China: Antidumping Duty Orders, 75 FR 57257 (September 20, 2010).

Changes Since the Preliminary Results

Based on the comments received from the interested parties, we have made no change to the Preliminary Results. For a discussion of the issues, see the Issues and Decision Memorandum.

Final Rescission, in Part, of the Administrative Review

In the Preliminary Results, the Department indicated its intent to rescind this review with respect to ANH (Xinyi) Refractories (“ANH (Xinyi)”), Yingkou New Century Refractories Ltd. (“Yingkou New Century”), and RHI-Refractories Asia Pacific Pte. Ltd., RHI Refractories (Dalian) Co., Ltd., RHI Refractories Liaoning Co., Ltd., RHI Trading Shanghai Branch, and RHI Trading (Dalian) Co., Ltd. (collectively, “RHI”) upon preliminarily determining that they had no shipments of subject merchandise to the United States during the POR.⁴ Subsequent to the Preliminary Results, no information was submitted on the record indicating that these companies made sales to the United States of subject merchandise during the POR and no party provided written arguments regarding this issue. Thus, in accordance with 19 CFR 351.213(d)(3), and consistent with our practice,⁵ we are rescinding this review with respect to ANH (Xinyi), Yingkou New Century and RHI.

⁴ See Preliminary Results, 77 FR 61394-61395.

⁵ See, e.g., Certain Tissue Paper Products from the People's Republic of China: Preliminary Results and Partial Rescission of Antidumping Duty Administrative Review, 73 FR 18497, 18500 (April 4, 2008) (preliminarily rescinding review because of lack of reviewable entries), unchanged in Certain Tissue Paper Products from the People's Republic of China: Final Results and Final Rescission, in Part, of Antidumping Duty Administrative Review, 73 FR 58113 (October 6, 2008).

PRC-Wide Entity

In the Preliminary Results, we assigned to the PRC-wide entity, which included Yingkou Byuquan Refractories Co., Ltd. (“BRC”), a rate of 236.00 percent based upon adverse facts available (“AFA”). We have received no comment or information since the Preliminary Results that would warrant reconsideration of our determination. Therefore, the final results are unchanged from the Preliminary Results, and we have continued to assign an AFA rate of 236.00 percent to the PRC-wide entity, which includes BRC.

Final Results of Review

The weighted-average dumping margins for the POR are as follows:

Exporter | Weighted-average dumping margin (percent)
Fengchi Imp. and Exp. Co., Ltd. of Haicheng City and Fengchi Refractories Co., of Haicheng City | 236.00
PRC-wide entity (including Yingkou Byuquan Refractories Co., Ltd.) | 236.00

The Department will disclose calculations performed for these final results to the parties within five days of the date of publication of this notice, in accordance with 19 CFR 351.224(b).

Assessment

The Department will determine, and U.S. Customs and Border Protection (CBP) shall assess, antidumping duties on all appropriate entries. The Department intends to issue assessment instructions to CBP 15 days after the date of publication of the final results of review.

For any individually examined respondents whose weighted-average dumping margin is not below de minimis (i.e., 0.5 percent), we will calculate importer-specific ad valorem duty assessment rates based on the ratio of the total amount of dumping calculated for the importer's examined sales to the total entered value of those same sales in accordance with 19 CFR 351.212(b)(1).⁶ The Department will instruct CBP to assess antidumping duties on all appropriate entries covered by this review when the importer-specific assessment rate calculated in the final results of this review is not below de minimis. Where either the respondent's weighted-average dumping margin is zero or below de minimis, or an importer-specific assessment rate is zero or below de minimis,⁷ the Department will instruct CBP to liquidate the appropriate entries without regard to antidumping duties.

⁶ In these final results, the Department applied the assessment rate calculation method adopted in Antidumping Proceedings: Calculation of the Weighted-Average Dumping Margin and Assessment Rate in Certain Antidumping Proceedings: Final Modification, 77 FR 8101 (February 14, 2012).

⁷ See 19 CFR 351.106(c)(2).

For the PRC-wide entity, the Department will instruct CBP to assess antidumping duties at a rate equal to the weighted-average dumping margin included above in the Final Results of Review.

Cash Deposit Requirements

The following cash deposit requirements will be effective upon publication of the final results of this administrative review for all shipments of the subject merchandise entered, or withdrawn from warehouse, for consumption on or after the publication date, as provided for by section 751(a)(2)(C) of the Tariff Act of 1930, as amended (Act): (1) for the exporters listed above, the cash deposit rate will be equal to the weighted-average dumping margin established in the final results of review (except, if the rate is zero or below de minimis, i.e., 0.5 percent, a zero cash deposit rate will be required for that exporter); (2) for previously investigated or reviewed PRC and non-PRC exporters not listed above that have a separate rate, the cash deposit rate will continue to be the exporter-specific rate published for the most recent period; (3) for all PRC exporters of subject merchandise which have not been found to be entitled to a separate rate, the cash deposit rate will be 236.00 percent, the rate for the PRC-wide entity; and (4) for all non-PRC exporters of subject merchandise which have not received their own rate, the cash deposit rate will be the rate applicable to the PRC exporters that supplied that non-PRC exporter. These cash deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: April 9, 2013.
Paul Piquado,
Assistant Secretary for Import Administration.

Appendix I

Comment 1 Adverse Facts Available for Fengchi's Failure to Report Sales of Magnesia Alumina Carbon Bricks

Comment 2 The Appropriate Weighted-Average Dumping Margin Assigned to Fengchi

Comment 3 Surrogate Values for Dumping Margin Calculations

Comment 4 Customs Instructions

[FR Doc. 2013-08807 Filed 4-12-13; 8:45 am]

BILLING CODE 3510-DS-P